DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: July 18, 2019, 10:00 a.m.

PLACE: Room 2C, 888 First Street NE, Washington, DC 20426.

STATUS: Open.

MATTERS TO BE CONSIDERED: Agenda. *Note. Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1058th—Meeting
Open Meeting; July 18, 2019; 10:00 a.m.
Item No. | Docket No. | Company
ADMINISTRATIVE
A-1 | AD19-1-000 | Agency Administrative Matters.
A-2 | AD19-2-000 | Customer Matters, Reliability, Security and Market Operations.
ELECTRIC
E-1 | RM16-17-000 | Data Collection for Analytics and Surveillance and Market-Based Rate Purposes.
E-2 | RM19-2-000 | Refinements to Horizontal Market Power Analysis for Sellers in Certain Regional Transmission Organization and Independent System Operator Markets.
E-3 | RM18-15-001 | Interlocking Officers and Directors; Requirements for Applicants and Holders.
E-4 | QF18-452-000 | North American Natural Resources, Inc.
E-5 | NJ19-10-000 | Western Area Power Administration.
E-6 | ER19-1876-000 | Duke Energy Carolinas, LLC, Duke Energy Progress, LLC, and Duke Energy Florida, LLC.
E-7 | ER18-2370-001 | Lackawanna Energy Center LLC.
E-8 | ER19-585-001 | Quilt Block Wind Farm LLC.
E-9 | ER19-266-001 | Invenergy Nelson LLC.
E-10 | ER18-1222-005 | PSEG Energy Resources & Trade LLC.
E-11 | ER18-1737-002, ER18-1737-004 | Northern Indiana Public Service Company LLC.
E-12 | OMITTED
E-13 | ER14-2529-005, ER15-2294-004, ER16-2320-004 (consolidated) | Pacific Gas and Electric Company.
E-14 | ER11-2774-003 | Virginia Electric and Power Company.
| ER12-303-003 | Dominion Energy Generation Marketing, Inc., Dominion Energy Nuclear Connecticut, Inc., Dominion Bridgeport Fuel Cell, LLC, NedPower Mount Storm, LLC, Fowler Ridge Wind Farm; LLC, South Carolina Electric & Gas Company.
| ER11-2774-004 | Virginia Electric and Power Company, Dominion Energy Generation Marketing, Inc., Dominion Energy Nuclear Connecticut, Inc., Dominion Bridgeport Fuel Cell, LLC, Dominion Energy South Carolina, Inc.
E-15 | EL18-48-002 | Gregory and Beverly Swecker v. Midland Power Cooperative and Central Iowa Power Cooperative.
| QF11-424-007 | Gregory and Beverly Swecker.
E-16 | EL18-140-001 | Consumers Energy Company, Interstate Power and Light Company, Midwest Municipal Transmission Group, Missouri River Energy Services, Southern Minnesota Municipal Power Agency, and WPPI Energy v. International Transmission Company, ITC Midwest, LLC, and Michigan Electric Transmission Company.
E-17 | OMITTED
E-18 | OMITTED
E-19 | EL15-70-000 | EL15-71-000
| EL15-72-000 | Public Citizen, Inc. v. Midcontinent Independent System Operator, Inc.
| The People of the State of Illinois By Illinois Attorney General Lisa Madigan v. Midcontinent Independent System Operator, Inc.
| Southwestern Electric Cooperative, Inc. v. Midcontinent Independent System Operator, Inc., Dynegy, Inc., and Sellers of Capacity into Zone 4 of the 2015-2016 MISO Planning Resource Auction.
GAS
G-1 | PR17-60-001; PR17-60-002 | Atmos Pipeline—Texas.
G-2 | RP18-1126-001 | Transcontinental Gas Pipe Line Company, LLC.
HYDRO
H-1 | P-13-036 | Green Island Power Authority and Albany Engineering Corporation.
CERTIFICATES
C-1 | CP18-525-000 | Gulf South Pipeline Company, LP.
C-2 | CP19-3-000 | Gulf South Pipeline Company, LP.
C-3 | CP18-485-000 | CP18-486-000
| CP18-505-000 | Texas Eastern Transmission, LP; Transcontinental Gas PipeLine Company, LLC.
| Texas Eastern Transmission, LP; Transcontinental Gas PipeLine Company, LLC; Northern Natural Gas Company.
| Texas Eastern Transmission, LP.

Issued: July 11, 2019.
Nathaniel J. Davis, Sr.,
Deputy Secretary.

A free webcast of this event is available through http://ferc.capitolconnection.org/. Anyone with internet access who desires to view this event can do so by navigating to www.ferc.gov' s Calendar of

Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2019-15173 Filed 7-12-19; 11:15 am]

BILLING CODE 6717-01-P